DEPARTMENT OF ENERGY

Federal Energy Regulatory Commission

[Docket No. ER02-1656-000]

California Independent System Operator Corporation; Notice of FERC Staff Attendance

November 3, 2005.

The Federal Energy Regulatory Commission (Commission) hereby gives notice that on November 3 and 4, 2005, members of its staff will attend stakeholder meetings to review the California Independent System Operator Corporation's (CAISO) proposed Market Redesign and Technology Upgrade tariff. The meetings will be held at the Embassy Suites, located at 100 Capitol Mall, Sacramento, CA. An agenda and meeting documents can be found on the CAISO's Web site, http://www.caiso.com.

Sponsored by the CAISO, the meetings are open to the public, and staff's attendance is part of the Commission's ongoing outreach efforts. The meeting may discuss matters at issue in Docket No. ER02-1656-000.

For further information, contact Katherine Gensler at katherine.gensler@ferc.gov; (916) 294-0275.

Magalie R. Salas,
Secretary.

[FR Doc. E5-6201 Filed 11-9-05; 8:45 am]

BILLING CODE 6717-01-P